DEPARTMENT OF HOMELAND SECURITY

Federal Emergency Management Agency

[Docket ID FEMA-2007-0008]

National Advisory Council Teleconference

AGENCY: Federal Emergency Management Agency, DHS.

ACTION: Notice of teleconference meeting.

SUMMARY: The National Advisory Council (NAC) will be holding a teleconference on June 18, 2008 from 1-4 p.m. EDT to discuss and approve their comments to the draft revised National Incident Management System (NIMS) document; to discuss potential recommendations regarding the Robert T. Stafford Disaster Relief and Emergency Assistance Act, as amended, and post-disaster housing. The teleconference meeting will be open to the public.

DATES: Meeting Date: June 18, 2008 from 1-4 p.m. EDT; Comment Date: Written statements must be received by June 10, 2008.

ADDRESSES: The meeting will be held via teleconference only. Members of the public who wish to obtain the call-in number, access code, and other information for the public teleconference may contact Alyson Price as listed under the FOR FURTHER INFORMATION CONTACT caption by 5 p.m. on June 10, 2008.

You may submit statements to the NAC on the draft NIMS document, identified by Docket ID FEMA-2007-0008, by one of the following methods:

Federal Rulemaking Portal: http://www.regulations.gov. Follow instructions for submitting comments on the Web site.

E-mail: FEMA-RULES@dhs.gov. Include Docket ID FEMA-2007-0008 in the subject line of the message.

Facsimile: (866) 466-5370.

Mail: Office of Chief Counsel, Federal Emergency Management Agency, Room 835, 500 C Street, SW., Washington, DC 20472.

Hand Delivery/Courier: Office of the Chief Counsel, Federal Emergency Management Agency, Room 835, 500 C Street, SW., Washington, DC 20472.

Instructions: Please note that statements submitted to this docket are for the use of the NAC and although they could be considered by the NAC in the generation of its recommendation to FEMA on the draft document, public statements will not be forwarded to FEMA for its consideration. FEMA published a separate Federal Register notice requesting public comments on the NIMS. Those comments should be submitted to http://www.regulations.gov under Docket ID: FEMA-2008-0008 no later than June 2, 2008.

All Submissions received must include the agency name and Docket ID FEMA-2007-0008. Regardless of the method used for submitting comments or material, all submissions will be posted, without change, to the Federal eRulemaking Portal at http://www.regulations.gov, and will include any personal information you provide. Therefore, submitting this information makes it public. You may wish to read the Privacy Act notice that is available on the Privacy and Use Notice link on the Administration Navigation Bar of http://www.regulations.gov.

Docket: For access to the docket to read background documents or comments received, go to Docket ID FEMA-2007-0008 at http://www.regulations.gov. The 2008 draft NIMS document can be found in Docket ID FEMA-2008-0008.

FOR FURTHER INFORMATION CONTACT: Alyson Price, Designated Federal Officer, Federal Emergency Management Agency, 500 C Street, SW., (E Street, 3rd Floor), Washington, DC 20472, telephone 202-646-3746, and e-mail FEMA-NAC@dhs.gov or Jennifer.Veal@associates.dhs.gov. The NAC's Web site is located at: http://www.fema.gov/about/nac/.

SUPPLEMENTARY INFORMATION: Notice of this meeting is given under the Federal Advisory Committee Act (FACA), Public Law 92-463, as amended (5 U.S.C. App. 1, et seq.). Section 508(b) of the Post-Katrina Emergency Management Reform Act of 2006, Public Law 109-295, requires that the National Advisory Council (NAC) incorporate State, local, and tribal government and private sector input in the development and revision of the National Incident Management System (NIMS) (and other plans and strategies). The NAC will be holding a teleconference meeting for purposes of discussing the NAC's comments to the NIMS document as well as potential recommendations regarding the Robert T. Stafford Disaster Relief and Emergency Assistance Act, as amended, and post-disaster housing issues. It is possible that the NAC may briefly address other issues during this call. This meeting is open to the public. Although members of the public will not be allowed to comment orally during the meeting, they may file a written statement by June 10, 2008.

Dated: May 27, 2008.
Harvey Johnson,
Deputy Administrator, Federal Emergency Management Agency.

[FR Doc. E8-12164 Filed 5-30-08; 8:45 am]

BILLING CODE 9111-48-P